DEPARTMENT OF TRANSPORTATION

Maritime Administration

[Docket No. MARAD-2019-0028]

Request for Comments on the Renewal of a Previously Approved Information Collection: Requirements for Establishing U.S. Citizenship

AGENCY: Maritime Administration, DOT.

ACTION: Notice and request for comments.

SUMMARY: The Maritime Administration (MARAD) invites public comments on our intention to request the Office of Management and Budget (OMB) approval to renew an information collection. The information to be collected are Affidavits of U.S. Citizenship filed with MARAD to determine if the applicants are eligible to participate in various benefit programs offered by the agency. We are required to publish this notice in the Federal Register by the Paperwork Reduction Act of 1995.

DATES: Comments must be submitted on or before April 30, 2019.

ADDRESSES: You may submit comments [identified by Docket No. MARAD-2019-0028] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Michael Pucci, 202-366-5167, Office of Maritime Program, Maritime Administration, 1200 New Jersey Avenue SE, Washington, DC 20590, Email: Michael.Pucci@dot.gov. Copies of this collection also can be obtained from that office.

SUPPLEMENTARY INFORMATION: Title: Requirements for Establishing U.S. Citizenship—46 CFR 355.

OMB Control Number: 2133-0012.

Type of Request: Renewal of a Previously Approved Information Collection.

Abstract: Maritime Administration implementing regulations at 46 CFR parts 355 and 356 set forth requirements for establishing U.S. citizenship in accordance with MARAD statutory authority. Those receiving benefits under 46 U.S.C. Chapters 531, 535, and 537 (formerly the Merchant Marine Act, 1936, as amended), or applicants seeking a fishery endorsement eligibility approval pursuant to the American Fisheries Act must be citizens of the United States within the meaning of 46 U.S.C. 50501, (formerly Section 2 of the Shipping Act, 1916, as amended). In either case, whether seeking program benefits or fishery endorsement eligibility, Section 50501 sets forth the statutory requirements for determining whether an applicant, be it a corporation, partnership, or association is a U.S. citizen. 46 CFR part 356 is distinguished from 46 CFR part 355 in that Part 356 establishes requirements for U.S. citizenship exclusively in accordance with the AFA while Part 355 is applied for purposes of establishing citizenship across multiple MARAD programs arising under other statutory authority. Most program participants are required to submit to MARAD on an annual basis the form of affidavit prescribed by Part 355 or Part 356.

Respondents: Shipowners, charterers, equity owners, ship managers, etc.

Affected Public: Business or other-for-profit.

Estimated Number of Respondents: 500.

Estimated Number of Responses: 500.

Estimated Hours per Response: 5.

Annual Estimated Total Annual Burden Hours: 2,500.

Frequency of Response: Annually.

(Authority: The Paperwork Reduction Act of 1995; 44 U.S.C. Chapter 35, as amended; and 49 CFR 1.93.)

* * * * *

Dated: February 26, 2019.
By Order of the Maritime Administrator.
T. Mitchell Hudson, Jr.,
Secretary, Maritime Administration.

[FR Doc. 2019-03691 Filed 2-28-19; 8:45 am]

BILLING CODE 4910-81-P